DEPARTMENT OF ENERGY

Federal Energy Regulatory Commission

[Project No. P-2197-073]

Alcoa Power Generating Inc.; Notice of Settlement Agreement and Soliciting Comments

May 17, 2007.

Take notice that the following settlement agreement has been filed with the Commission and is available for public inspection.

a. Type of Application: Settlement Agreement.

b. Project Nos.: P-2197-073.

c. Date Filed: May 7, 2007.

d. Applicant: Alcoa Power Generating Inc. (Alcoa Generating).

e. Name of Project: Yadkin Hydroelectric Project.

f. Location: On the Yadkin River in Stanly, Davidson, Montgomery, and Rowan Counties, North Carolina. The project does not occupy federal lands.

g. Filed Pursuant to: Rule 602 of the Commission's Rules of Practice and Procedure, 18 CFR 385.602.

h. Applicant Contact: Gene Ellis, Licensing and Property Manager, Alcoa Power Generating, Inc., Yadkin Division, NC Highway 740, P.O. Box 576, Badin, North Carolina 28009-0576, Phone: (909) 394-8667.

i. FERC Contact: Lee Emery, 888 First St, NE., Washington, DC 20426, (202) 502-8379.

j. Deadline for filing comments: June 6, 2007. Reply comments due June 18, 2007.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Alcoa Generating filed a settlement on behalf of itself and 24 other entities that signed the settlement. Other parties signing the settlement included state agencies, county governments, an Indian tribe, and various other stakeholders involved in the relicense proceeding. The purpose of the settlement agreement is to resolve most of the issues that have or could have been raised by the settling parties in connection with the Commission's issuance of a new license for the project and to establish Alcoa Generating's obligations for the protection, mitigation, and enhancement of resources affected by the project. Major issues covered in the settlement include: (1) Revising the operating rule curve for High Rock Lake, (2) stabilizing water levels at all four project reservoirs to enhance fish spawning, (3) increasing minimum flow releases from the project, (4) implementing a dissolved oxygen monitoring plan, (5) improving recreational facilities, and (6) developing a flow and reservoir monitoring and compliance plan.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

Kimberly D. Bose,
Secretary.

[FR Doc. E7-9999 Filed 5-23-07; 8:45 am]

BILLING CODE 6717-01-P